DEPARTMENT OF ENERGY

Federal Energy Regulatory Commission

[Docket No. CP03-356-000]

El Paso Natural Gas Company; Notice of Request for Authorization

October 1, 2003.

Take notice that on September 22, 2003, El Paso Natural Gas Company (El Paso), Post Office Box 1087, Colorado Springs, Colorado, 80904, filed in Docket No. CP03-356-000 a request pursuant to Sections 157.216(b) and 157.208(b) of the Federal Energy Regulatory Commission's regulations under the Natural Gas Act (NGA) for authorization to abandon by removal and reconfigure segments of El Paso's 8-⅝ inch Willcox/Safford line (Line 2105), located between milepost (MP) 0+0000 and MP 11+0264, located in Cochise County, Arizona, pursuant to Section 7 of the NGA, all as more fully set forth in the application which is on file with the Commission and open to public inspection. This filing is available for review at the Commission or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

El Paso states the proposed abandonment and reconfiguration is necessary in order to address anomalies discovered in Line 2105 (between MP 0 and MP 11.05) during an internal inspection conducted by El Paso during 2001 and 2002. Any questions concerning this request may be directed to Robert T Tomlinson, Director, Regulatory Affairs Department, El Paso Natural Gas Company, P.O. Box 1087, Colorado Springs, Colorado 80944, at (719) 520-3788 or fax (719) 520-4318.

Any person or the Commission's staff may, within 45 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Comments, protests and interventions may be filed electronically via the Internet in lieu of paper. See, 18 CFR 385.2001(a)(1)(iii) and the instructions on the Commission's under the “e-Filing” link. The Commission strongly encourages electronic filings.

Magalie R. Salas,
Secretary.

[FR Doc. E3-00006 Filed 10-6-03; 8:45 am]

BILLING CODE 6717-01-P